DEPARTMENT OF JUSTICE

8 CFR Parts 103, 310, 320, 322, 334, 337, 338, and 341

[INS No. 2101-00]

RIN 1115-AF98

Children Born Outside the United States; Applications for Certificate of Citizenship

AGENCY: Immigration and Naturalization Service, Justice.

ACTION: Interim rule with request for comments.

SUMMARY: This rule implements Title I of the Child Citizenship Act of 2000 (CCA), Public Law 106-395. First, this rule amends the Immigration and Naturalization Service (Service) regulations by adding a new part which addresses application procedures for foreign-born children residing in the United States pursuant to a lawful admission for permanent residence, who acquire citizenship automatically under section 320 of the Immigration and Nationality Act (Act), as amended. This rule establishes procedures for these foreign-born children, including adopted children, to obtain certificates of citizenship. Second, this rule also addresses application procedures for foreign-born children residing outside of the United States, who can acquire citizenship under section 322 of the Act, as amended, by approval of an application and taking of the oath of allegiance.

The Service is publishing this interim rule to provide U.S. citizen parents seeking certificates of citizenship on behalf of their minor children with information about how to acquire certificates of citizenship under the current application process.

The Service will work with Congress, the adoption community, and other stakeholders to re-engineer the current application process not only for children who acquire U.S. citizenship automatically but also for children who acquire citizenship by application. This re-engineering will address both the application process and the costs.

Parents who wish to receive a certificate of citizenship for their minor children now may apply using the current procedures noted in this rule. Alternatively, they may apply for a U.S. passport from the Department of State and wait until the Service has completed re-engineering of the application process.

DATES: Effective date: This interim rule is effective June 13, 2001.

The CCA became effective on February 27, 2001. Publication of this regulation does not alter the effective date of the CCA nor does it affect the status of individuals who acquired U.S. citizenship by operation of law on that date.

Comment date: Comments must be submitted on or before August 13, 2001.

ADDRESSES: Please submit written comments to the Director, Policy Directives and Instructions Branch, Immigration and Naturalization Service, 425 I Street, NW., Room 4034, Washington, DC 20536. To ensure proper handling, please reference INS No. 2101-00 on your correspondence. Written comments may also be submitted via facsimile to 202-305-0143. Comments are available for public inspection at the above address by calling (202) 514-3048 to arrange for an appointment.

FOR FURTHER INFORMATION CONTACT: Richard Sheridan, Immigration Services Division, Office of Field Operations, Immigration and Naturalization Service, 801 I Street NW., Suite 900, Washington, DC 20536, telephone (202) 616-0583.

SUPPLEMENTARY INFORMATION:

Background

On October 30, 2000, the President signed H.R. 2883, the Child Citizenship Act of 2000 (CCA), Public Law 106-395, into law. Title I, section 101 of the CCA permits certain foreign-born children who are residing in the United States pursuant to a lawful admission for permanent residence to acquire citizenship automatically upon fulfillment of certain conditions. Title I, section 102 of the CCA permits certain foreign-born children residing outside the United States to receive citizenship on approval of an application and taking of the oath of allegiance.

Title II of the CCA amends the Act and related statutes to provide protections for certain aliens who impermissibly voted in a Federal, State, or local election or falsely represented themselves as United States citizens in order to obtain Federal, State, or local benefits. The Service will address the provisions of Title II of the CCA in a separate rulemaking.

Does This Rule Supersede a Prior Rulemaking?

The Service published a proposed rule in the Federal Register on September 10, 1996, at 61 FR 47690, which would have amended the regulations at part 322 to reflect changes made to section 322 of the Act by the Immigration and Nationality Technical Corrections Act of 1994 (INTCA), Public Law 103-416. The CCA amendments to section 322 of the Act, however, supersede the INTCA amendments. Thus, the previously proposed revisions to part 322 are no longer applicable under the CCA. The Service will remove that proposed rule from the Unified Agenda of Federal Regulations. The Service is revising part 322 in its entirety. Through this interim rule, the public will have an opportunity to comment on this revised part as well as the new part 320, which establishes procedures for those children who acquire citizenship automatically under the CCA. In addition, the Service intends to publish another rule to reflect the re-engineered process once that process is complete.

When Does the CCA Take Effect?

The CCA became effective on February 27, 2001, which was 120 days from the date of enactment.

What Are the Conditions for Automatic Citizenship Under the CCA?

Foreign-born children who are residing in the United States will acquire citizenship automatically if:

(1) The child has at least one United States citizen parent (by birth or naturalization); and

(2) The child currently is under 18 years of age; and

(3) The child currently is residing in the United States in the legal and physical custody of the United States citizen parent, pursuant to a lawful admission for permanent residence.

If adopted, the child must meet all of the above requirements as well as satisfy the requirements applicable to adopted children under section 101(b)(1) of the Act.

What Are the Conditions for Citizenship on Application Under the CCA?

Foreign-born children who are residing outside of the United States will acquire citizenship on approval of an application for a certificate of citizenship and taking of the oath of allegiance, unless the oath is waived in accordance with section 337(a) of the Act. The Service will issue a certificate of citizenship if the following conditions have been fulfilled:

(1) The child has at least one United States citizen parent (by birth or naturalization);

(2) The United States citizen parent has been physically present in the United States or its outlying possessions for at least 5 years, at least 2 of which were after the age of 14, or the United States citizen parent has a citizen parent who has been physically present in the United States or its outlying possessions for at least 5 years, at least 2 of which were after the age of 14;

(3) The child currently is under 18 years of age;

(4) The child currently is residing outside the United States in the legal and physical custody of the United States citizen parent; and

(5) The child is temporarily present in the United States pursuant to a lawful admission and is maintaining such lawful status in the United States.

If an adopted child, all of the above conditions must be fulfilled and the child must satisfy the requirements applicable to adopted children under section 101(b)(1) of the Act.

Does the CCA Apply to Foreign-Born Children Who Are Now Over the Age of 18?

No, section 104 of the CCA provides that on the effective date, February 27, 2001, its provisions apply to those “individuals who satisfy the requirements of section 320 or 322 of the Immigration and Nationality Act, as in effect on such effective date.” Both section 320 and 322 of the Act, as amended, require that an individual be under the age of 18 years in order to be eligible for citizenship under the new provisions. Individuals who are 18 years old or older on February 27, 2001, do not qualify for citizenship under the new law. However, an individual over the age of 18 can apply for naturalization, if eligible in all respects.

Who Is Considered a “Child” Under the CCA?

Under the CCA an adopted child must satisfy the requirements of section 101(b)(1) of the Act in order to be eligible to acquire automatic citizenship. Thus, currently those adopted children who immigrate to the United States (or adjust status in the United States to that of a lawful permanent resident) under section 101(b)(1)(E) of the Act, or under 101(b)(1)(F) of the Act and thereafter have a full, final and complete adoption, are qualified children. The term “child” as applied to all other children shall have the same meaning as that provided in the text of section 101(c)(1) of the Act.

What Is Meant by the Phrase “Residing in the United States Pursuant to a Lawful Admission for Permanent Residence”?

To qualify under the CCA, applicants must establish not only that they have been admitted to the United States as lawful permanent residents, but also that they are “residing in” the United States pursuant to admission in such status. Admission in any immigrant classification will satisfy the requirement that the applicant be admitted to the United States as a lawful permanent resident. A more difficult question is raised by the requirement that the applicant be “residing in” the United States. Under the section 101(a)(33) of the Act, “residence” is defined as “the place of general abode; the place of general abode of a person means his principal, actual dwelling place in fact, without regard to intent.” On the other hand, in certain circumstances, an alien with lawful permanent resident status may live outside the United States without losing that status, and for some purposes U.S. citizens living outside the United States are considered to still have a residence in the United States.

The Service, in conjunction with the Department of State, is reviewing the legal question of whether, and if so, under what circumstances, a child with lawful permanent resident status who is actually living outside the United States can be described as “residing in” the United States for purposes of the CCA. Until this question is resolved, the Service and Department of State will only document as a United States citizen a child in two instances. First, the child will qualify if, on or after February 27, 2001, the child is admitted as a lawful permanent resident and actually living in the United States. Second, in the case of a child who was previously admitted as a lawful permanent resident but was absent from the United States on February 27, 2001, the child will qualify only if that child returned to the United States after February 27, 2001 and was re-admitted as a lawful permanent resident. The child must also be in the legal and physical custody of the U.S. citizen parent. The Service and Department of State, in the interim, will regard that child as residing in the United States.

What Is a Lawful Admission and Maintenance of Lawful Status for Purposes of Section 322 of the Act?

Under section 322 of the Act, a foreign-born child who resides outside the United States must be lawfully admitted to the United States and maintain such lawful status until the application for certificate of citizenship is approved and the oath of allegiance administered (unless waived). “Admission” is defined under section 101(a)(13) of the Act. A child may be admitted in any nonimmigrant classification. A child is considered to have maintained lawful status if his or her nonimmigrant classification has not been revoked or has not expired by operation of law.

What Is Meant by the Term “Legal” Custody?

Both section 320 and 322 of the Act, as amended by the CCA, require a U.S. citizen parent(s) to establish that the child is in his or her legal custody. The term “legal custody” refers to the responsibility for and authority over a child. For the purpose of the CCA, the Service will presume that a U.S. citizen parent has legal custody of a child, and will recognize that U.S. citizen parent as having lawful authority over the child, absent evidence to the contrary, in the case of: (1) A biological child who currently resides with both natural parents (who are married to each other, living in marital union, and not separated), (2) a biological child who currently resides with a surviving natural parent (if the other parent is deceased), or (3) in the case of a biological child born out of wedlock who has been legitimated and currently resides with the natural parent.

In the case of an adopted child, a determination that a U.S. citizen parent has legal custody will be based on the existence of a final adoption decree. In the case of a child of divorced or legally separated parents, the Service will find a U.S. citizen parent to have legal custody of a child, for the purpose of the CCA, where there has been an award of primary care, control, and maintenance of a minor child to a parent by a court of law or other appropriate government entity pursuant to the laws of the state or country of residence. The Service will consider a U.S. citizen parent who has been awarded “joint custody,” to have legal custody of a child. “Joint custody” refers to the award of equal responsibility for and authority over the care, education, religion, medical treatment and general welfare of a child to both parents by a court of law or other appropriate government entity pursuant to the laws of the state or country of residence. There may be other factual circumstances under which the Service will find the U.S. citizen parent to have legal custody for purposes of the CCA.

In the case of an adopted child or a child of divorced or legally separated parents, a determination that a parent has legal (and/or joint) custody will be based on the provisions of the adoption and/or divorce decree or separation agreement executed under the laws of the state or country of residence. In cases where the issue of custody is not explicitly addressed in the divorce decree or separation agreement, a determination of legal and/or joint custody shall be made based on the laws of the State or country of residence.

Do Children Who Qualify for Automatic Citizenship Under the CCA Have To Apply for a Certificate of Citizenship?

No. They are citizens automatically, if they meet all the conditions, without having to file an application. However, parents of children who meet the conditions for automatic acquisition of citizenship under the CCA may either apply for a certificate of citizenship from the Service or for a passport from the Department of State, if they want to document the child's status as a U.S. citizen.

What Forms and Documents Must Be Filed in Order To Obtain a Certificate of Citizenship for a Minor Adopted Child Who Qualifies for Automatic Citizenship Under the CCA?

U.S. citizen parents of adopted children should submit a Form N-643, Application for Certificate of Citizenship in Behalf of an Adopted Child, with the required filing fee of $125.00. In most instances, the Service will have all the required documentation necessary to adjudicate the application for a certificate of citizenship in the child's administrative file. U.S. citizen parents of adopted children generally will only need to submit photographs of the child and the required fee. For children who immigrate to the United States and are adopted or have to be re-adopted in the United States, the Service will also request evidence of a full and final adoption. In certain instances, the Service may request additional documentation to supplement the record if required documentation is not in Service administrative file(s) or to resolve discrepancies between the application and the documentation in Service records.

What Forms and Documents Must Be Filed in Order to Obtain a Certificate of Citizenship for a Minor Biological Child Who Qualifies for Automatic Citizenship Under the CCA?

U.S. citizen parents of biological children should submit a Form N-600, Application for Certificate of Citizenship, with the required fee of $160.00. As with adopted children, in most instances, the Service will have all the required documentation necessary to adjudicate the application for certificate of citizenship in the child's or parent's administrative file. U.S. citizen parents of biological children generally will only need to submit photographs of the child and the required fee. In certain instances, the Service may request additional documentation to supplement the record if required documentation is not in Service administrative file(s) or to resolve discrepancies between the application and the documentation in Service records.

What Forms and Documents Must Be Filed in Order To Obtain a Certificate of Citizenship for a Biological or Adopted Child Who Resides Outside the United States and Qualifies for Citizenship on Application Under the CCA?

U.S. citizen parents should submit a Form N-600, with the required fee of $160.00, for biological children and Form N-643, with the required fee of $125.00, for adopted children. The Service will also require parents to submit, as appropriate:

(1) Photographs of the child;

(2) Child's birth certificate;

(3) Evidence of U.S. citizen parent's citizenship;

(4) Marriage certificate (if applicable);

(5) Evidence of termination of previous marriages (if applicable);

(6) Evidence of U.S. citizen parent's (or the citizen parent of the U.S. citizen) physical presence in the United States;

(7) Evidence of the child's lawful admission to the United States and maintenance of such status;

(8) Evidence of a full and final adoption (if applicable);

(9) Evidence of all legal name changes (if applicable).

In addition, in certain circumstances, depending on the facts of the case, parents may also be required to submit:

(1) Evidence of legitimation (if applicable);

(2) Evidence of legal custody (if applicable);

(3) Evidence that an adopted child (not orphan) meets the definition of 101(b)(1)(E) (if applicable); and

(4) Evidence of an approval notice for a Form I-600, classifying the child as an orphan (if applicable).

When Is it Necessary To File the Form N-600/N-643, Supplement A?

Under the CCA, the U.S. citizen parent of a child living abroad must have at least 5 years of physical presence in the United States, 2 years of which are after the age of 14, in order to apply for a certificate of citizenship on behalf of a minor child. If the U.S. citizen parent cannot meet this requirement, a child may still qualify for citizenship under the CCA if the U.S. citizen parent has a U.S. citizen parent who met the physical presence requirements noted above. If the child is relying on the physical presence of the U.S. citizen parent's citizen parent, the Form N-600/N-643, Supplement A must also be submitted. There is no fee for this supplement form.

Will the Service Be Revising the Forms for Certificate of Citizenship for an Adopted or Biological Child Who Qualifies for Citizenship Under the CCA?

As part of its efforts to re-engineer and streamline the certificate of citizenship application process, the Service is considering consolidating the Form N-643 and the Form N-600/N-643, Supplement A, into the Form N-600. The information requested on these three forms is largely duplicative and by consolidating the information on one form, all United States citizen parent(s) potentially will be able to request a certificate of citizenship on behalf of their minor child without having to complete multiple forms. The Service is publishing elsewhere in this issue of the Federal Register an information collection noitce with a draft revised Form N-600 on which the Service will solicit public comment.

The Service, after review of all public comments, will determine whether it will use the revised and consolidated Form N-600. If so, the Service, upon approval by OMB, will publish a notice in the Federal Register addressing the effective date for use of the form.

The public should continue to use the current Forms N-600, N-643, and N-600/N-643, Supplement A until further notice.

Where Should the Application Be Filed?

For minor biological children who reside in the United States pursuant to a lawful admission for permanent residence and acquire citizenship automatically, a U.S. citizen parent should file the Form N-600, with the required fee of $160.00, as specified under 8 CFR 103.7(b)(1), with the appropriate district office or suboffice in the United States having jurisdiction over the parent and child's place of residence.

For minor adopted children who reside in the United States pursuant to a lawful admission for permanent residence and acquire citizenship automatically, a U.S. citizen parent should file the Form N-643, with the required fee of $125.00, as specified under 8 CFR 103.7(b)(1), with the appropriate district office or suboffice in the United States having jurisdiction over the parent and child's place of residence.

For minor biological children who reside outside of the United States with the U.S. citizen parent, a U.S. citizen parent may file the Form N-600, with the required fee of $160.00, as specified under 8 CFR 103.7(b)(1), with any stateside district office. The parent should include a request with the Form N-600, noting preferred interview dates, and should allow sufficient time (at least 90 days) to enable the Service office to preliminarily adjudicate the application, schedule the interview, and send the appointment notice to the foreign address.

For minor adopted children who reside outside of the United States with the U.S. citizen parent, a U.S. citizen parent may file the Form N-643, with the required fee of $125.00, as specified under 8 CFR 103.7(b)(1), with any stateside district office. The parent should include a request with the Form N-643, noting preferred interview dates, and should allow sufficient time (at least 90 days) to enable the Service office to preliminarily adjudicate the application, schedule the interview, and send the appointment notice to the foreign address.

Are Interviews Necessary for Applications Filed Under New Sections 320 or 322?

Under 8 CFR 341.2, in certain instances the Service may process applications for certificates of citizenship without an interview. Generally an interview will not be required to obtain a certificate of citizenship under the CCA. However, the Service may request an interview to clarify or resolve issues raised by, or discrepancies between, the application and Service records. Applications filed for children who become citizens upon their parent(s)' naturalization frequently can be adjudicated without an interview, provided the Service has proper evidence of the parent(s)’ naturalization and the Service administrative file(s) that contain the documentation of the naturalizing parent and child's identity and relationship. Similarly, applications filed for children who immigrated as IR-3s (orphan adopted abroad by a U.S. citizen) may be adjudicated without an interview if the office has the child's A-file. Interviews for IR-4s (orphans coming to the United States to be adopted by U.S. citizen parent(s)) may be waived if the adjudicating officer has the child's administrative file and evidence of the final adoption (or the recognition by the state of residence of a foreign adoption).

All applications for certificates of citizenship filed under section 322 require an interview with both the U.S. citizen parent and the child.

How Will the Service Process the Form N-600 and the Form N-643 Applications That Were Pending When the Law Took Effect?

For pending applications filed to recognize citizenship status already acquired, the Service will continue to adjudicate such applications under the relevant law applicable to the case. For applications that required Service approval before an individual could be deemed a United States citizen, as of February 27, 2001, the Service will adjudicate those cases under the new law and for applicants who automatically acquire citizenship as of February 27, 2001, the Service will issue certificates of citizenship reflecting the person's citizenship as of that date. The Service will reopen a previously denied N-600 and adjudicate the application pursuant to the new law if the application would have been approvable if filed on or after February 27, 2001 under the new section 320 of the Act. In those cases, the applicant will not be required to refile the application.

What Effect Does the CCA Have on the Status of Persons Who Have Already Automatically Acquired Citizenship Under Sections 320 and 321 of the Act as in Effect Prior to February 27, 2001?

The CCA amends section 320 and repeals section 321 of the Act, effective February 27, 2001. Therefore, February 26, 2001, was the last date on which a person could automatically become a United States citizen under the provisions of section 320 and 321 of the Act as previously in force. All persons who acquired citizenship automatically under the provisions of sections 320 and 321 of the Act as previously in force up to February 26, 2001, may apply for a certificate of citizenship at any time and the application will be adjudicated under the provisions of sections 320 and 321 of the Act as in force prior to February 27, 2001.

What if the Form N-600 or N-643 Is Denied?

If the district director denies the Form N-600 or N-643, the applicant will be provided with a written decision detailing the reasons for denial. An applicant may appeal the decision to the Administrative Appeals Office (AAO) by filing a Form I-290B, Notice of Appeal to the Administrative Appeals Unit with the appropriate fee, within 30 days from the date of decision.

Does the CCA Change the Current Process for Immigrating Adopted Children and Orphans to the United States?

No, the current procedures for immigrating adopted children and orphans to the United States, as specified under 8 CFR part 204, are unaffected by the CCA. However, the Service is investigating ways in the future to streamline the process for documenting automatic acquisition of citizenship by these children. In addition, the Service intends to remove the Affidavit of Support (Form I-864) requirement for children adopted abroad who will receive citizenship at the time of entry as lawful permanent residents. This is the majority of cases. However, children born and residing outside of the United States or children who will not be adopted until after they enter the United States will still require the affidavit of support.

Do Adopted Children Who Initially Entered the United States as Nonimmigrants or Were Paroled Into the United States for Humanitarian Purposes Qualify for Automatic Citizenship if Currently They Do Not Have Lawful Permanent Resident Status?

No. Adopted children who are currently residing in the United States with a U.S. citizen parent(s) but who are in nonimmigrant or parole status do not qualify for automatic citizenship. Such children will acquire automatic citizenship only after they immigrate to the United States or adjust status in the United States to that of a lawful permanent resident. Once the child becomes a lawful permanent resident and all other requirements of the CCA are met, the child will be a citizen of the United States automatically by operation of law.

Can Children Adopted From the Republic of the Marshall Islands, Federated States of Micronesia, or Palau Qualify for Automatic Citizenship Under the CCA if They Were Admitted Into the United States as Nonimmigrants?

No. There are currently in existence a Compact of Free Association between the United States of America and the Republic of the Marshall Islands and with the Federated States of Micronesia (48 U.S.C. 1910, note), and a Compact of Free Association between the United States of America and Palau (48 U.S.C. 1931, note) (Compacts, Compact countries). Pursuant to section 141(a) of the Compacts, citizens of the Compact Countries may enter the United States, lawfully engage in occupations, accept employment, and establish residence as non-immigrants in the United States, its territories and possessions, without regard to section 212 (a)(5)(A) (labor certification), (7)(A) (immigrant visa) and (B) (non-immigrant visa) of the Immigration and Nationality Act (INA). Citizens of the Compact Countries who seek to immigrate into the United States must follow standard procedures of the INA. Adopted children who enter the United States to reside with their adoptive parents are not temporary visitors, but intend to become permanent residents, i.e., to immigrate. The entry of an adopted child as a non-immigrant under section 141(a), therefore, constitutes improper use of that procedure and an evasion of the visa requirements of the INA. It also jeopardizes, as will be shown in the following paragraph, the child's ability to acquire automatic citizenship under the CCA.

Children who are adopted in these countries and are admitted to the United States under section 141(a) of the Compacts do not qualify for automatic citizenship under the CCA because they were admitted as nonimmigrants. Such children, however, can benefit from the CCA once they become lawful permanent residents.

To obtain lawful permanent resident status for such adopted children, U.S. citizen parents must file a Form I-130, Petition for Alien Relative, establishing that the child meets the requirements of section 101(b)(1)(E) of the Act. Section 101(b)(1)(E) requires the child to have been adopted under the age of 16 years and to have resided with and in the legal custody of the adoptive U.S. citizen parent for at least 2 years.

Do Non-Citizen Children Adopted From the Commonwealth of the Northern Mariana Islands Qualify for Automatic Citizenship Under the CCA?

Only if such adopted children meet the requirements of the CCA, including lawful permanent residence.

(a) Children Born in the Commonwealth of the Northern Mariana Islands (CNMI)

The Covenant to Establish a Commonwealth of the Northern Mariana Islands in Political Union with the United States of America (Covenant), 48 U.S.C. 1801, note, provides that the CNMI is under the sovereignty of the United States (Covenant, section 101). All persons born in the CNMI on or after November 3, 1986, the date on which the Covenant became fully effective, are citizens of the United States at birth (Covenant, section 303). Most persons born in the CNMI prior to November 3, 1986, also became United States citizens on that day (Covenant, section 301). Accordingly, most children of adoptable age born in the CNMI are United States citizens. Their United States citizenship therefore does not depend on the CCA.

(b) Adopted Children Residing in the CNMI Who Are Citizens of the Compact Countries

There are currently in existence a Compact of Free Association between the United States of America and the Republic of the Marshall Islands and with the Federated States of Micronesia (48 U.S.C. 1910, note), and a Compact of Free Association between the United States of America and Palau (48 U.S.C. 1931, note) (Compacts, Compact countries). Pursuant to section 141(a) of the Compacts, citizens of the Compact Countries may enter the United States, lawfully engage in occupations, accept employment, and establish residence as non-immigrants in the United States, its territories and possessions, without regard to section 212 (a)(5)(A) (labor certification), (7)(A) (immigrant visa) and (B) (non-immigrant visa) of the Immigration and Nationality Act (INA). Citizens of the Compact Countries who seek to immigrate into the United States must follow standard procedures of the INA. Adopted children who enter the United States to reside with their adoptive parents are not temporary visitors, but intend to become permanent residents, i.e., to immigrate. The entry of an adopted child as a non-immigrant under section 141(a), therefore, constitutes improper use of that procedure and an evasion of the visa requirements of the INA. It also jeopardizes, as will be shown in the following paragraph, the child's ability to acquire automatic citizenship under the CCA.

Children who are adopted in these countries and are admitted to the United States under section 141(a) of the Compacts do not qualify for automatic citizenship under the CCA because they were admitted as nonimmigrants. Such children, however, can benefit from the CCA once they become lawful permanent residents.

To obtain lawful permanent resident status for such adopted children, U.S. citizen parents must file a Form I-130, Petition for Alien Relative, establishing that the child meets the requirements of section 101(b)(1)(E) of the Act. Section 101(b)(1)(E) requires the child to have been adopted under the age of 16 years and to have resided in the United States, in the legal custody of the adoptive U.S. citizen parent for at least 2 years.

(c) Adopted Children Residing in the CNMI Who Are Neither United States Citizens Nor Citizens of a Compact Country

Adopted children who are currently residing in the CNMI with a U.S. citizen parent(s) who are neither United States citizens nor citizens of a Compact Country but who are in nonimmigrant or parole status do not qualify for automatic citizenship. Such children will acquire automatic citizenship only after they immigrate to the United States or adjust status in the United States to that of a lawful permanent resident. Once the child becomes a lawful permanent resident and all other requirements of the CCA are met, the child will be a citizen of the United States automatically by operation of law.

It should be noted, however, first, that it is not likely that many adopted children fall into that class, and, second, due to the peculiar immigration status of the CNMI, the vast majority of those adopted children will be lawful permanent residents. Although the CNMI is under the sovereignty of the United States and most of the persons born in the CNMI are citizens of the United States, the CNMI is not a part of the United States for the purposes of the Immigration and Nationality Act (INA). Section 101(a)(38). Aliens who seek to enter the United States governed by the INA (all areas subject to the sovereignty of the United States except American Samoa and the CNMI) from the CNMI are therefore subject to the visa requirements of the INA. There is no equivalent provision to section 141(a) of the Compacts in the Covenant that would permit the entry of non-immigrants from the CNMI under a visa waiver. Hence, alien adopted children residing in the CNMI who are not citizens of the Compact Countries must have a visa, and it may be assumed that either the adoptive parent or the issuing visa official will see to it that the adopted children will travel under an immigrant visa that will insure the acquisition of lawful permanent resident status.

Thus for all practical purposes the only alien adopted children from the CNMI who lack the lawful permanent resident requirement of the CCA would be citizens of the Compact Countries who entered as non-immigrants, and parolees.

When Does a Child Automatically Acquire Citizenship?

A child who qualifies for citizenship automatically will be deemed a citizen on the date the last condition is fulfilled (e.g., the date of final, full and complete adoption, naturalization of the parent, or admission of the child as a lawful permanent resident, whichever happens last). United States citizen parents should note that children who are admitted to the United States under section 101(b)(1)(F) of the Act as IR-4s (orphans coming to the United States to be adopted by U.S. citizen parent(s)) do not automatically acquire citizenship on entry, even though admitted as lawful permanent residents. Children admitted as IR-4s (orphans coming to the United States to be adopted by U.S. citizen parent(s)) must have been finally adopted in the United States or had the foreign adoption recognized by the state where the child is permanently residing. For those children under the age of 18 who acquired citizenship under the CCA on the date the law became effective, February 27, 2001, that date is the date of their citizenship.

Good Cause Exception

This interim rule is effective on publication, although the Service invites post-promulgation comments and will address any such comments in a final rule. For the following reason, the Service finds that good cause exists for adopting this rule without the prior notice and comment period ordinarily required by 5 U.S.C. 553(b). The amendments made by Public Law 106-395 apply to individuals who satisfy the requirements of section 320 and 322 of the Act beginning February 27, 2001. It is therefore impracticable to adopt this rule with the prior notice and comment period normally required under 5 U.S.C. 553(b).

Regulatory Flexibility Act

The Acting Commissioner of the Immigration and Naturalization Service, in accordance with the Regulatory Flexibility Act (5 U.S.C. 605(b)), has reviewed this regulation and, by approving it, certifies that the rule will not have a significant economic impact on a substantial number of small entities. This rule merely establishes procedures for U.S. citizen parents to apply for certificates of citizenship for foreign-born children residing permanently in the United States or residing abroad. The affected parties are not small entities, and the impact of the regulation is not an economic one.

Executive Order 12866

This rule is considered by the Department of Justice, Immigration and Naturalization Service, to be a “significant regulatory action” under Executive Order 12866, section 3(f), Regulatory Planning and Review. Accordingly, this regulation has been reviewed by the Office of Management and Budget.

Executive Order 13132

This rule will not have substantial direct effects on the States, on the relationship between the National Government and the States, or on the distribution of power and responsibilities among the various levels of government. Therefore, in accordance with section 6 of Executive Order 13132, it is determined that this rule does not have sufficient federalism implications to warrant the preparation of a federalism summary impact statement.

Unfunded Mandates Reform Act of 1995

This rule will not result in the expenditure by State, local, and tribal governments, in the aggregate, or by the private sector, of $100 million or more in any 1 year, and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign-based companies in domestic and export markets.

Executive Order 12988 Civil Justice Reform

This final rule meets the applicable standards set forth in sections 3(a) and 3(b)(2) of Executive Order 12988.

Paperwork Reduction Act of 1995

The Service is considering consolidating the Form N-643, and the Form N-600/N-643, Supplement A, into the Form N-600. In addition, the information collection requirement, Form N-600 is in the process of being revised. Since this interim rule takes effect on publication, the public should continue to use Forms N-600, N-643, and N-600/N-643, Supplement A until further notice.

The Service is publishing a draft copy of this form in an information collection notice published in this issue of the Federal Register to give the public a chance to comment on the form.

The Service, after review of all public comments, will determine whether it will use the revised and consolidated Form N-600. If so, the Service, upon approval by OMB, will publish a notice in the Federal Register addressing the effective date for use of the form.

List of Subjects

8 CFR Part 103

Administrative practice and procedure, Authority delegations (Government Agencies), Freedom of information, Privacy, Reporting and recordkeeping requirements, Surety bonds.

8 CFR Part 310

Citizenship and naturalization, Courts.

8 CFR Part 320

Citizenship and naturalization, Infants and children, Reporting and recordkeeping requirements.

8 CFR Part 322

Citizenship and naturalization, Infants and children, Reporting and recordkeeping requirements.

8 CFR Part 334

Administrative practice and procedure, Citizenship and naturalization, Courts, Reporting and recordkeeping requirements.

8 CFR Part 337

Citizenship and naturalization, Courts.

8 CFR Part 338

Citizenship and naturalization, Reporting and recordkeeping requirements.

8 CFR Part 341

Citizenship and naturalization, Reporting and recordkeeping requirements.

Accordingly, chapter I of title 8 of the Code of Federal Regulations is amended as follows:

PART 103—POWERS AND DUTIES OF SERVICE OFFICERS; AVAILABILITY OF SERVICE RECORDS

1. The authority citation for part 103 is revised to read as follows:

Authority: 5 U.S.C. 552, 552a; 8 U.S.C. 1101, 1103, 1304, 1356; 31 U.S.C. 9701; E.O. 12356, 47 FR 14874, 15557, 3 CFR, 1982 Comp., p. 166; 8 CFR part 2.

2. Section 103.1 is amended by:

a. Removing the period at the end of paragraph (f)(3)(iii)(MM); and inserting a “; and” in its place; and by

b. Adding a new paragraph (f)(3)(iii)(NN), to read as follows:

§ 103.1 Delegations of authority.

* * * * *

(f) * * *

(3) * * *

(iii) * * *

(NN) Applications for certificates of citizenship under §§ 320.5 and 322.5 of this chapter.

* * * * *

PART 310—NATURALIZATION AUTHORITY

3. The authority citation for part 310 is revised to read as follows:

Authority: 8 U.S.C. 1103, 1421, 1443, 1447, 1448; 8 CFR part 2.

§ 310.3 [Amended]

4. In § 310.3, paragraph (b) is amended in the last sentence by removing the reference to “322(c),”.

5. Part 320 is added to read as follows:

PART 320—CHILD BORN OUTSIDE THE UNITED STATES AND RESIDING PERMANENTLY IN THE UNITED STATES; REQUIREMENTS FOR AUTOMATIC ACQUISITION OF CITIZENSHIP

Sec.
320.1 What definitions are used in this part?
320.2 Who is eligible for citizenship?
320.3 How, where, and what forms and other documents should be filed?
320.4 Who must appear for an interview on the application for citizenship?
320.5 What happens if the application is approved or denied by the Service?

Authority: 8 U.S.C. 1103, 1443; 8 CFR part 2.

§ 320.1 What definitions are used in this part?

As used in this part, the term:

Adopted means adopted pursuant to a full, final and complete adoption. If a foreign adoption of an orphan was not full and final, was defective, or the unmarried U.S. citizen parent or U.S. citizen parent and spouse jointly did not see and observe the child in person prior to or during the foreign adoption proceedings, the child is not considered to have been fully, finally and completely adopted and must be readopted in the United States. Readoption requirements may be waived if the state of residence of the United States citizen parent(s) recognizes the foreign adoption as full and final under that state's adoption laws.

Adopted child means a person who has been adopted as defined above and who meets the requirements of section 101(b)(1)(E) or (F) of the Act.

Child means a person who meets the requirements of section 101(c)(1) of the Act.

Joint custody, in the case of a child of divorced or legally separated parents, means the award of equal responsibility for and authority over the care, education, religion, medical treatment, and general welfare of a child to both parents by a court of law or other appropriate government entity pursuant to the laws of the state or country of residence.

Legal custody refers to the responsibility for and authority over a child.

(1) For the purpose of the CCA, the Service will presume that a U.S. citizen parent has legal custody of a child, and will recognize that U.S. citizen parent as having lawful authority over the child, absent evidence to the contrary, in the case of:

(i) A biological child who currently resides with both natural parents (who are married to each other, living in marital union, and not separated),

(ii) A biological child who currently resides with a surviving natural parent (if the other parent is deceased), or

(iii) In the case of a biological child born out of wedlock who has been legitimated and currently resides with the natural parent.

(2) In the case of an adopted child, a determination that a U.S. citizen parent has legal custody will be based on the existence of a final adoption decree. In the case of a child of divorced or legally separated parents, the Service will find a U.S. citizen parent to have legal custody of a child, for the purpose of the CCA, where there has been an award of primary care, control, and maintenance of a minor child to a parent by a court of law or other appropriate government entity pursuant to the laws of the state or country of residence. The Service will consider a U.S. citizen parent who has been awarded “joint custody,” to have legal custody of a child. There may be other factual circumstances under which the Service will find the U.S. citizen parent to have legal custody for purposes of the CCA.

§ 320.2 Who is eligible for citizenship?

(a) General. To be eligible for citizenship under section 320 of the Act, a person must establish that the following conditions have been met after February 26, 2001:

(1) The child has at least one United States citizen parent (by birth or naturalization);

(2) The child is under 18 years of age; and

(3) The child is residing in the United States in the legal and physical custody of the United States citizen parent, pursuant to a lawful admission for permanent residence.

(b) Additional requirements if child is adopted. If adopted, the child must meet all of the requirements in paragraph (a) of this section as well as satisfy the requirements applicable to adopted children under section 101(b)(1) of the Act.

§ 320.3 How, where, and what forms and other documents should be filed?

(a) Application. Individuals who are applying for certificate of citizenship on their own behalf should file a Form N-600, Application for Certificate of Citizenship. An application for a certificate of citizenship under this section on behalf of a minor biological child shall be submitted on Form N-600, Application for Certificate of Citizenship, by the U.S. citizen parent(s) or legal guardian. An application for a certificate of citizenship under this section on behalf of a minor adopted child shall be submitted on Form N-643, Application for Certificate of Citizenship in Behalf of An Adopted Child by U.S. citizen adoptive parent(s) or legal guardian. The completed application and accompanying supporting documentation must be filed at the appropriate stateside Service district office or sub-office with jurisdiction over the U.S. citizen parent and child's residence. The application must be filed with the filing fee required in § 103.7(b)(1) of this chapter.

(b) Evidence. (1) An applicant under this section shall establish eligibility under § 320.2. In addition to the forms and the appropriate fee as required in § 103.7(b)(1) of this chapter, an applicant must submit the following required documents unless such documents are already contained in the Service administrative file(s):

(i) The child's birth certificate or record;

(ii) Marriage certificate of child's parents (if applicable);

(iii) If the child's parents were married before their marriage to each other, proof of termination of any previous marriage of each parent (e.g., death certificate or divorce decree);

(iv) Evidence of U.S. citizenship of parent, (i.e., birth certificate; naturalization certificate; FS-240, Report of Birth Abroad; a valid unexpired U.S. passport; or certificate of citizenship);

(v) If the child was born out of wedlock, documents verifying legitimation according to the laws of the child's residence or domicile or father's residence or domicile (if applicable);

(vi) In case of divorce, legal separation, or adoption, documentation of legal custody;

(vii) Copy of Permanent Resident Card/Alien Registration Receipt Card or other evidence of lawful permanent resident status (e.g. I-551 stamp in a valid foreign passport or Service-issued travel document);

(viii) If adopted, a copy of the full, final adoption decree and, if the adoption was outside of the United States and the child immigrated as an IR-4 (orphans coming to the United States to be adopted by U.S. citizen parent(s)), evidence that the foreign adoption is recognized by the state where the child is permanently residing; and

(ix) Evidence of all legal name changes, if applicable, for the child and U.S. citizen parent.

(2) If the Service requires any additional documentation to make a decision on the application for certificate of citizenship, applicants may be asked to provide that documentation under separate cover or at the time of interview. Applicants do not need to submit documents that were submitted in connection with: An application for immigrant visa and retained by the American Consulate for inclusion in the immigrant visa package, or an immigrant petition or application and included in a Service administrative file. Applicants should indicate that they wish to rely on such documents and identify the administrative file(s) by name and alien number. The Service will only request the required documentation again if necessary.

§ 320.4 Who must appear for an interview on the application for citizenship?

All applicants (and U.S. citizen parent(s) if application filed on behalf of a minor biological or adopted child) must appear for examination unless such examination is waived under the guidelines expressed in § 341.2 of this chapter.

§ 320.5 What happens if the application is approved or denied by the Service?

(a) Approval of application. If the application for the certificate of citizenship is granted, after the applicant takes the oath of allegiance prescribed in 8 CFR part 337, unless the oath is waived, the Service will issue a certificate of citizenship.

(b) Denial of application. If the decision of the district director is to deny the application for a certificate of citizenship under this section, the applicant shall be furnished with the reasons for denial and advised of the right to appeal in accordance with the provisions of 8 CFR 103.3(a). An applicant may file an appeal on Form I-290B, Notice of Appeal to the Administrative Appeals Unit (AAU), with the required fee prescribed in § 103.7(b)(1) of this chapter, in accordance with the instructions therein and with any supporting documentation addressing the reasons for denial. To be timely, an appeal must be filed within 30 days of service of the decision. After an application for a certificate of citizenship has been denied and the time for appeal has expired, a second application submitted by the same individual shall be rejected and the applicant will be instructed to submit a motion for reopening or reconsideration in accordance with 8 CFR 103.5. The motion shall be accompanied by the rejected application and the fee specified in 8 CFR 103.7. A decision shall be issued with notification of appeal rights in all certificate of citizenship cases, including any case denied due to the applicant's failure to prosecute the application.

6. Part 322 is revised to read as follows:

PART 322—CHILD BORN OUTSIDE THE UNITED STATES; REQUIREMENTS FOR APPLICATION FOR CERTIFICATE OF CITIZENSHIP

Sec.
322.1 What are the definitions used in this part?
322.2 Who is eligible for citizenship?
322.3 How, where, and what forms and other documents should the United States citizen parent(s) file?
322.4 Who must appear for an interview on the application for citizenship?
322.5 What happens if the application is approved or denied by the Service?

Authority: 8 U.S.C. 1103, 1443; 8 CFR part 2.

§ 322.1 What are the definitions used in this part?

As used in this part the term:

Adopted means adopted pursuant to a full, final and complete adoption. In the case of an orphan adoption, if a foreign adoption was not full and final, was defective, or the unmarried U.S. citizen parent or U.S. citizen parent and spouse jointly did not see and observe the child in person prior to or during the foreign adoption proceedings, an orphan is not considered to have been adopted and must be readopted in the United States or satisfy the requirements of section 101(b)(1)(E) of the Act.

Adopted child means a person who has been adopted as defined above and who meets the requirements of section 101(b)(1)(E) or (F) of the Act.

Child means a person who meets the requirements of section 101(c)(1) of the Act.

Lawful admission shall have the same meaning as provided in section 101(a)(13) of the Act.

Joint custody, in the case of a child of divorced or legally separated parents, means the award of equal responsibility for and authority over the care, education, religion, medical treatment and general welfare of a child to both parents by a court of law or other appropriate government entity pursuant to the laws of the state or country of residence.

Legal custody refers to the responsibility for and authority over a child.

(1) For the purpose of the CCA, the Service will presume that a U.S. citizen parent has legal custody of a child, and will recognize that U.S. citizen parent as having lawful authority over the child, absent evidence to the contrary, in the case of:

(i) A biological child who currently resides with both natural parents (who are married to each other, living in marital union, and not separated),

(ii) A biological child who currently resides with a surviving natural parent (if the other parent is deceased), or

(iii) In the case of a biological child born out of wedlock who has been legitimated and currently resides with the natural parent.

(2) In the case of an adopted child, a determination that a U.S. citizen parent has legal custody will be based on the existence of a final adoption decree. In the case of a child of divorced or legally separated parents, the Service will find a U.S. citizen parent to have legal custody of a child, for the purpose of the CCA, where there has been an award of primary care, control, and maintenance of a minor child to a parent by a court of law or other appropriate government entity pursuant to the laws of the state or country of residence. The Service will consider a U.S. citizen parent who has been awarded “joint custody,” to have legal custody of a child. There may be other factual circumstances under which the Service will find the U.S. citizen parent to have legal custody for purposes of the CCA.

§ 322.2 Who is eligible for citizenship?

(a) General. A child will be eligible for citizenship under section 322 of the Act, if the following conditions have been fulfilled:

(1) The child has at least one United States citizen parent (by birth or naturalization);

(2) The United States citizen parent has been physically present in the United States or its outlying possessions for at least 5 years, at least 2 of which were after the age of 14, or the United States citizen parent has a United States citizen parent who has been physically present in the United States or its outlying possessions for at least 5 years, at least 2 of which were after the age of 14;

(3) The child currently is under 18 years of age;

(4) The child currently is residing outside the United States in the legal and physical custody of the United States citizen parent; and

(5) The child is temporarily present in the United States pursuant to a lawful admission and is maintaining such lawful status in the United States.

(b) Additional requirements if child is adopted. If an adopted child, all of the requirements in paragraph (a) of this section must be fulfilled and the child must satisfy the requirements applicable to adopted children under section 101(b)(1) of the Act.

§ 322.3 How, where, and what forms and other documents should the United States citizen parent(s) file?

(a) Application. An application for a certificate of citizenship under this section on behalf of a biological child shall be submitted on Form N-600, Application for Certificate of Citizenship, by the U.S. citizen parent(s). An application for a certificate of citizenship under this section on behalf of an adopted child shall be submitted on Form N-643, Application for Certificate of Citizenship in Behalf of An Adopted Child by U.S. citizen adoptive parent(s). The completed application and accompanying supporting documentation may be filed at any stateside district office or suboffice. The application must be filed with the filing fee required in § 103.7(b)(1) of this chapter. The U.S. citizen parent should include a request with the N-600 or N-643, noting preferred interview dates, and should allow sufficient time (at least ninety days) to enable the Service office to preliminarily adjudicate the application, schedule the interview, and send the appointment notice to the foreign address.

(b) Evidence. (1) An applicant under this section shall establish eligibility under § 322.2. In addition to the forms and the appropriate fee as required in § 103.7(b)(1) of this chapter, an applicant must submit the following required documents unless such documents are already contained in the Service administrative file(s):

(i) The child's birth certificate or record;

(ii) Marriage certificate of child's parents (if applicable);

(iii) If the child's parents were married before their marriage to each other, proof of termination of any previous marriage of each parent (e.g., death certificate or divorce decree);

(iv) Evidence of U.S. citizenship of parent (i.e., birth certificate; naturalization certificate; FS-240, Report of Birth Abroad; a valid unexpired U.S. passport; or certificate of citizenship);

(v) If the child was born out of wedlock, documents verifying legitimation according to the laws of the child's residence or domicile or father's residence or domicile (if applicable);

(vi) In case of divorce, legal separation, or adoption, documentation of legal custody (if applicable);

(vii) Documentation establishing that the U.S. citizen parent or U.S. citizen grandparent meets the required physical presence requirements (e.g., school records, military records, utility bills, medical records, deeds, mortgages, contracts, insurance policies, receipts, or attestations by churches, unions, or other organizations);

(viii) Evidence that the child is present in the United States pursuant to a lawful admission and is maintaining such lawful status (e.g., Form I-94, Arrival/Departure Record) (in certain circumstances, this evidence may be presented at the time of interview);

(ix) If adopted, a copy of a full, final adoption decree;

(x) For adopted children (not orphans) applying under section 322 of the Act, evidence that they satisfy the requirements of section 101(b)(1)(E);

(xi) For adopted orphans applying under section 322 of the Act, a copy of notice of approval of a Form I-600 Petition to Classify Orphan as an Immediate Relative, and supporting documentation for such form (except the home study); and

(xii) Evidence of all legal name changes, if applicable, for child, U.S. citizen parent, or U.S. citizen grandparent.

(2) If the Service requires any additional documentation to make a decision on the Form N-600 or N-643, parents may be asked to provide that documentation under separate cover or at the time of interview. Parents do not need to submit documents that were submitted in connection with: An application for immigrant visa and retained by the American Consulate for inclusion in the immigrant visa package, or another immigrant petition or application and included in a Service administrative file. Parents should indicate that they wish to rely on such documents and identify the administrative file(s) by name and alien number. The Service will only request the required documentation again if necessary.

§ 322.4 Who must appear for an interview on the application for citizenship?

The U.S. citizen parent and the child shall appear in person before a Service officer for examination on the application for certificate of citizenship.

§ 322.5 What happens if the application is approved or denied by the Service?

(a) Approval of application. If the application for certificate of citizenship is approved, after the applicant takes the oath of allegiance prescribed in 8 CFR part 337, unless the oath is waived, the Service will issue a certificate of citizenship. The child is a citizen as of the date of approval and administration of the oath of allegiance.

(b) Denial of application. If the decision of the district director is to deny the application for a certificate of citizenship under this section, the applicant shall be furnished with the reasons for denial and advised of the right to appeal in accordance with the provisions of 8 CFR 103.3(a). An applicant may file an appeal on Form I-290B, Notice of Appeal to the Administrative Appeals Unit (AAU), with the required fee prescribed in § 103.7(b)(1) of this chapter, in accordance with the instructions therein and with any supporting documentation addressing the reasons for denial. To be timely filed, an appeal must be filed within 30 days of service of the decision. After an application for a certificate of citizenship has been denied and the time for appeal has expired, a second application submitted by the same individual shall be rejected and the applicant will be instructed to submit a motion for reopening or reconsideration in accordance with 8 CFR 103.5. The motion shall be accompanied by the rejected application and the fee specified in 8 CFR 103.7. A decision shall be issued with notification of appeal rights in all certificate of citizenship cases, including any case denied due to the applicant's failure to prosecute the application.

PART 334—APPLICATION FOR NATURALIZATION

7. The authority citation for part 334 is revised to read as follows:

Authority: 8 U.S.C. 1103, 1443; 8 CFR part 2.

§ 334.1 [Amended]

8. Section 334.1 is amended by removing the reference to “322,”.

§ 334.2 [Amended]

9. Section 334.2 is amended by removing the reference to “322,” from the first sentence in paragraph (a).

PART 337—OATH OF ALLEGIANCE

10. The authority citation for part 337 is revised to read as follows:

Authority: 8 U.S.C. 1103, 1443, 1448; 8 CFR part 2.

§ 337.9 [Amended]

11. Section 337.9 is amended by removing and reserving paragraph (b).

PART 338—CERTIFICATE OF NATURALIZATION

12. The authority citation for part 338 is revised to read as follows:

Authority: 8 U.S.C. 1103, 1443; 8 CFR part 2.

§ 338.4 [Removed and reserved]

13. Section 338.4 is removed and reserved.

PART 341—CERTIFICATES OF CITIZENSHIP

14. The authority citation for part 341 is revised to read as follows:

Authority: Pub. L. 82-414, 66 Stat. 173, 238, 254, 264, as amended; 8 U.S.C. 1103, 1409(c), 1443, 1444, 1448, 1452, 1455; 8 CFR part 2.

15. Section 341.2 is amended by revising paragraph (a)(1) introductory text to read as follows:

§ 341.2 Examination upon application.

(a) * * *

(1) When testimony may be omitted. An application received at a Service office having jurisdiction over the applicant's residence may be processed without interview if the Service officer adjudicating the case has in the Service administrative file(s) all the required documentation necessary to establish the applicant's eligibility for U.S. citizenship, or if the application is accompanied by one of the following:

* * * * *

§ 341.7 [Amended]

16. Section 341.7 is amended by removing and reserving paragraph (b).

Dated: June 5, 2001.
Kevin D. Rooney,
Acting Commissioner, Immigration and Naturalization Service.

[FR Doc. 01-14579 Filed 6-12-01; 8:45 am]

BILLING CODE 4410-10-P